NATIONAL FOUNDATION ON THE ARTS AND THE HUMANITIES

National Endowment for the Arts; Arts Advisory Panel

Pursuant to Section 10(a)(2) of the Federal Advisory Committee Act (Pub. L. 92-463), as amended, notice is hereby given that six meetings of the Arts Advisory Panel to the National Council on the Arts will be held at the Nancy Hanks Center, 1100 Pennsylvania Avenue, NW., Washington, DC 20506 as follows (ending times are approximate):

Learning in the Arts (application review): September 30-October 1, 2009 in Room 716. A portion of this meeting, from 4 p.m. to 4:30 p.m. on October 1st, will be open to the public for policy discussion. The remainder of the meeting, from 9 a.m. to 5:30 p.m. on September 30th, and from 9 a.m. to 4 p.m. and 4:30 p.m. to 5:30 p.m. on October 1st, will be closed.

Learning in the Arts (application review): October 7-8, 2009 in Room 716. A portion of this meeting, from 4 p.m. to 4:30 p.m. on October 8th, will be open to the public for policy discussion. The remainder of the meeting, from 9 a.m. to 5:30 p.m. on October 7th, and from 9 a.m. to 4 p.m. and 4:30 p.m. to 5:30 p.m. on October 8th, will be closed.

Learning in the Arts (application review): October 19-23, 2009 in Room 716. A portion of this meeting, from 3:30 p.m. to 4 p.m. on October 22nd, will be open to the public for policy discussion. The remainder of the meeting, from 9 a.m. to 5:30 p.m. on October 19th through October 21st, from 9 a.m. to 3:30 p.m. and 4 p.m. to 5:30 p.m. on October 22nd, and from 9 a.m. to 4:00 p.m. on October 23rd, will be closed.

Media Arts (application review): October 21-22, 2009 in Room 730. This meeting, from 9 a.m. to 5:30 p.m. on October 21st and from 9 a.m. to 4:30 p.m. on October 22nd, will be closed.

Media Arts (application review): October 23, 2009 in Room 730. This meeting, from 9 a.m. to 5:30 p.m., will be closed.

Music (application review): October 26-28, 2009 in Room 714. This meeting, from 9 a.m. to 5:30 p.m. on October 26th, from 9 a.m. to 6 p.m. on October 27th, and from 9 a.m. to 4:45 p.m. on October 28th, will be closed.

The closed portions of meetings are for the purpose of Panel review, discussion, evaluation, and recommendations on financial assistance under the National Foundation on the Arts and the Humanities Act of 1965, as amended, including information given in confidence to the agency. In accordance with the determination of the Chairman of February 28, 2008, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC 20506, or call 202/682-5691.

Dated: September 3, 2009.
Kathy Plowitz-Worden,
Panel Coordinator, Panel Operations, National Endowment for the Arts.

[FR Doc. E9-21668 Filed 9-8-09; 8:45 am]

BILLING CODE 7537-01-P